DEPARTMENT OF HOMELAND SECURITY

Coast Guard

[Docket No. USCG-2017-0544]

Merchant Mariner Medical Advisory Committee

AGENCY: Coast Guard, Department of Homeland Security.

ACTION: Notice of Federal Advisory Committee teleconference meeting.

SUMMARY: The Merchant Mariner Medical Advisory Committee working group will meet via teleconference to work on Task Statement 25, review of the draft Merchant Mariner Medical Manual, to complete the discussions from its April 4-5, and May 8, 2017 meetings. The teleconference will be open to the public.

DATES: The Merchant Marine Mariner Medical Advisory Committee working group is scheduled to meet via teleconference on Thursday, August 17, 2017, from 2 p.m. until 5 p.m. Eastern Standard Time. Please note that this teleconference may adjourn early if the working group has completed its business.

ADDRESSES: To join the teleconference, contact the individual listed in the FOR FURTHER INFORMATION CONTACT section to obtain the needed information no later than 5 p.m. on August 10, 2017. The number of teleconference lines is limited and will be available on a first-come, first served basis. To physically join those participating from U.S. Coast Guard Headquarters, it will be held in Room 5J16-15, 2703 Martin Luther King Jr. Ave. SE., Washington, DC 20593-7509 (http://www.dcms.uscg.mil/Our-Organization/Director-of-Operational-Logistics-DOL/Bases/Base-National-Capital-Region/Visitor/).

Pre-registration Information: Foreign nationals participating physically at the U.S. Coast Guard Headquarters will be required to pre-register no later than 4 p.m. on August 1, 2017. U.S. citizens participating physically at the U.S. Coast Guard Headquarters will be required to pre-register no later than 4 p.m. on August 10, 2017, to be admitted to the meeting. To pre-register, contact Lieutenant Junior Grade James Fortin at 202-372-1128 or james.l.fortin@uscg.mil with MEDMAC in the subject line and provide your name, company, and telephone number; if a foreign national, also provide your country of citizenship, and passport number and expiration date. All attendees will be required to provide a government-issued picture identification card in order to gain admittance to the building.

For information on facilities or services for individuals with disabilities or to request special assistance at the meeting, contact the Alternate Designated Federal Officer as soon as possible using the contact information provided in the FOR FURTHER INFORMATION CONTACT section of this notice.

Instructions: You are free to submit comments at any time, including orally at the teleconference, but if you want working group committee members to review your comment before the meeting, please submit your comments no later than August 10, 2017. We are particularly interested in comments on the issues in the “Agenda” section below. You must include “Department of Homeland Security” and the docket number USCG-2017-0544. Written comments may also be submitted using Federal eRulemaking Portal at http://www.regulations.gov. If you encounter technical difficulties with comments submission, contact the individual listed in the FOR FURTHER INFORMATION CONTACT section of this document. Comments received will be posted without alteration at http://www.regulations.gov, including any personal information provided. You may review the Privacy Act Notice regarding the Federal Docket Management System in the March 24, 2005, issue of the Federal Register (70 FR 15086).

Docket Search: For access to the docket to read documents or comments related to this notice, go to http://www.regulations.gov, type USCG-2017-0544 in the “Search” box, press Enter, and then click on the item you wish to view.

FOR FURTHER INFORMATION CONTACT: Lieutenant Junior Grade James Fortin, Alternate Designated Federal Officer of the Merchant Marine Personnel Advisory Committee, 2703 Martin Luther King Jr. Ave. SE., Stop 7509, Washington, DC 20593-7509, telephone 202-372-1128, fax 202-372-8385 or james.l.fortin@uscg.mil.

SUPPLEMENTARY INFORMATION: The Merchant Mariner Medical Advisory Committee Meeting is authorized by section 210 of the Coast Guard Authorization Act of 2010 (Pub. L. 111-281, codified at 46 United States Code 7115). The committee advises the Secretary on matters related to (a) medical certification determinations for issuance of licenses, certificates of registry, and merchant mariners' documents; (b) medical standards and guidelines for the physical qualifications of operators of commercial vessels; (c) medical examiner education; and (d) medical research.

Agenda

The agenda for the August 17, 2017, working group teleconference is as follows:

(1) The working group will meet briefly to discuss Task Statement 25 (All task statements can be found at https://homeport.uscg.mil/medmac);

(2) Reports of working sub-groups. The working sub-groups will report to the full working group on what was accomplished in their meetings. The full working group will not take action on these reports at this time. Any action taken as a result of this working group meeting will be taken after the public comment period.

(3) Public comment period.

(4) Preparation of the meeting report to the full Committee.

(5) Adjournment of meeting.

A copy of all meeting documentation will be available at https://homeport.uscg.mil/medmac. Alternatively, you may contact Lieutenant Junior Grade James Fortin as noted in the FOR FURTHER INFORMATION CONTACT section above. A public comment period will be held at the end of the day during the working group teleconference concerning matters being discussed. Speakers are requested to limit their comments to 3 minutes. Please note that the public comment period will end following the last call for comments. Please contact Lieutenant Junior Grade James Fortin, listed in the FOR FURTHER INFORMATION CONTACT section, to register as a speaker.

Please note that the teleconference may adjourn early if the work is completed.

Dated: June 26, 2017.
J.G. Lantz,
Director of Commercial Regulations and Standards.

[FR Doc. 2017-14682 Filed 7-12-17; 8:45 am]

BILLING CODE 9110-04-P